DEPARTMENT OF JUSTICE

Antitrust Division

Notice Pursuant to the National Cooperative Research and Production Act of 1993—Open Platform for NFV Project, Inc.

Notice is hereby given that, on July 20, 2016, pursuant to Section 6(a) of the National Cooperative Research and Production Act of 1993, 15 U.S.C. 4301 et seq. (“the Act”), Open Platform for NFV Project, Inc. (“Open Platform for NFV Project”) has filed written notifications simultaneously with the Attorney General and the Federal Trade Commission disclosing changes in its membership. The notifications were filed for the purpose of extending the Act's provisions limiting the recovery of antitrust plaintiffs to actual damages under specified circumstances. Specifically, Beijing Internet Institute, Beijing, PEOPLE'S REPUBLIC OF CHINA; Lenovo US, Morrisville, NC; and Qualcomm Technologies Inc., San Diego, CA, have been added as parties to this venture.

Also, Ixia, Calabasas, CA, has withdrawn as a party to this venture.

In addition, Freescale Semiconductor, Inc., has changed its name to NXP Semiconductors, Austin, TX.

No other changes have been made in either the membership or planned activity of the group research project. Membership in this group research project remains open, and Open Platform for NFV Project intends to file additional written notifications disclosing all changes in membership.

On October 17, 2014, Open Platform for NFV Project filed its original notification pursuant to Section 6(a) of the Act. The Department of Justice published a notice in the Federal Register pursuant to Section 6(b) of the Act on November 14, 2014 (79 FR 68301).

The last notification was filed with the Department on May 2, 2016. A notice was published in the Federal Register pursuant to Section 6(b) of the Act on May 24, 2016 (81 FR 32776).

Patricia A. Brink,
Director of Civil Enforcement, Antitrust Division.

[FR Doc. 2016-19039 Filed 8-10-16; 8:45 am]

BILLING CODE P